FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011692-002.

Title: Indamex Agreement.

Parties: CMA CGM, S.A., Contship Containerlines, The Shipping Corporation of India Ltd.

Synopsis: The amendment deletes all vessel-sharing and space chartering authority from the agreement.

Dated: February 7, 2003.
By Order of the Federal Maritime Commission.
Bryant L. VanBrakle,
Secretary.

[FR Doc. 03-3499 Filed 2-11-03; 8:45 am]

BILLING CODE 6730-01-P